DEPARTMENT OF COMMERCE

Economic Development Administration

Notice of National Advisory Council on Innovation and Entrepreneurship Meeting

AGENCY: Economic Development Administration, U.S. Department of Commerce.

ACTION: Notice of an open meeting.

SUMMARY: The National Advisory Council on Innovation and Entrepreneurship (NACIE) will hold a public meeting on Thursday, February 9, 2023. In 2022, U.S. Secretary of Commerce Gina M. Raimondo has appointed a cohort of 33 members to NACIE, and this will be this cohort's third meeting. NACIE will continue to consider the development of a national entrepreneurship strategy, an overview of Federal support for technology innovation and entrepreneurship, and an exploration of critical emerging technologies, and the regional technology and innovation hubs program recently enacted and funded by Congress.

DATES: Thursday, February 9, 2023, 9 a.m.-4 p.m. ET

ADDRESSES: Herbert Clark Hoover Building (HCHB), 1401 Constitution Ave NW, Washington, DC 20230. This meeting with take place in the Commerce Research Library using the HCHB entrance located at the southwest corner of 15th St NW and Pennsylvania Ave NW, and a valid government-issued ID is required to enter the building. Visitors to HCHB must comply with and adhere to the Department of Commerce's COVID-19 policies and protocols in effect at the time of the meeting, which can be found at the Department's COVID-1 Information Hub at https://www.commerce.gov/covid-19-information-hub. Please note that pre-clearance is required both to attend the meeting in person and to make a statement during the public comment portion of the meeting. Please limit comments to five minutes or less and submit a brief statement summarizing your comments to Eric Smith (see contact information below) no later than 11:59 p.m. ET on Wednesday, February 1, 2023. Teleconference or web conference connection information will be published prior to the meeting along with the agenda on the NACIE website at https://www.eda.gov/oie/nacie/.

FOR FURTHER INFORMATION CONTACT: Eric Smith, Office of Innovation and Entrepreneurship, 1401 Constitution Avenue NW, Room 78018, Washington, DC 20230; email: nacie@doc.gov; telephone: +1 202 482 8001. Please reference “NACIE February 2023 Meeting” in the subject line of your correspondence.

SUPPLEMENTARY INFORMATION: NACIE, established pursuant to Section 25(c) of the Stevenson-Wydler Technology Innovation Act of 1980, as amended (15 U.S.C. 3720(c)), and managed by EDA's Office of Innovation and Entrepreneurship, is a Federal Advisory Committee Act committee that provides advice directly to the Secretary of Commerce.

NACIE will be charged with developing a national entrepreneurship strategy that strengthens America's ability to compete and win as the world's leading startup nation and as the world's leading innovator in critical emerging technologies. NACIE is also charged with identifying and recommending solutions to drive the innovation economy, including growing a skilled STEM workforce and removing barriers for entrepreneurs ushering innovative technologies into the market. The council also facilitates federal dialogue with the innovation, entrepreneurship, and workforce development communities. Throughout its history, NACIE has presented recommendations to the Secretary of Commerce along the research-to-jobs continuum, such as increasing access to capital, growing and connecting entrepreneurial communities, fostering small business-driven research and development, supporting the commercialization of key technologies, and developing the workforce of the future.

The final agenda for the meeting will be posted on the NACIE website at http://www.eda.gov/oie/nacie/ prior to the meeting. Any member of the public may submit pertinent questions and comments concerning NACIE's affairs at any time before or after the meeting. Comments may be submitted to Eric Smith (see contact information above). Those unable to attend the meetings in person but wishing to listen to the proceedings can do so via teleconference or web conference (see above). Copies of the meeting minutes will be available by request within 90 days of the meeting date.

Dated: January 9, 2023.
Eric Smith,
Director, Office of Innovation and Entrepreneurship.

[FR Doc. 2023-00560 Filed 1-12-23; 8:45 am]

BILLING CODE 3510-24-P